DEPARTMENT OF ENERGY

Federal Energy Regulatory Commission

Combined Notice of Filings #1

Take notice that the Commission received the following electric rate filings:

Docket Numbers: ER10-1781-001.

Applicants: Northern Indiana Public Service Company.

Description: Amendment to Triennial Updated Market Power Analysis Filing Letter of Northern Indiana Public Service Company.

Filed Date: 3/12/12.

Accession Number: 20120312-5240.

Comments Due: 5 p.m. ET 4/2/12.

Docket Numbers: ER11-3322-002.

Applicants: PJM Interconnection, LLC.

Description: Compliance Filing per the February 24, 2012 Order in Docket ER11-3322-001 to be effective 11/7/2011.

Filed Date: 3/12/12.

Accession Number: 20120312-5236.

Comments Due: 5 p.m. ET 4/2/12.

Docket Numbers: ER11-4272-003.

Applicants: ITC Midwest LLC.

Description: Filing of a Compliance Filing to be effective 10/10/2011.

Filed Date: 3/12/12.

Accession Number: 20120312-5161.

Comments Due: 5 p.m. ET 4/2/12.

Docket Numbers: ER12-1244-000.

Applicants: RLD Resources, LLC.

Description: RLD Resources MBR Tariff Filing to be effective 3/26/2012.

Filed Date: 3/12/12.

Accession Number: 20120312-5183.

Comments Due: 5 p.m. ET 4/2/12.

Docket Numbers: ER12-1245-000.

Applicants: Interstate Power and Light Company.

Description: Amended IPL & ITC Operations Services Agreement to be effective 1/1/2011.

Filed Date: 3/12/12.

Accession Number: 20120312-5191.

Comments Due: 5 p.m. ET 4/2/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 13, 2012.
Nathaniel J. Davis, Sr.,
Deputy Secretary.

[FR Doc. 2012-6633 Filed 3-19-12; 8:45 am]

BILLING CODE 6717-01-P